DEPARTMENT OF ENERGY

Federal Energy Regulatory Commission

Notice of Effectiveness of Exempt Wholesale Generator Status

Rayos del Sol Solar Project, LLC | EG21-137-000
Guernsey Power Station LLC | EG21-138-000
Stony Creek Energy LLC | EG21-139-000
Orangeville Energy Storage LLC | EG21-140-000
Farmington Solar, LLC | EG21-141-000
Bluestone Wind, LLC | EG21-142-000
Ball Hill Wind Energy, LLC | EG21-143-000
White Mesa Wind, LLC | EG21-144-000
Rockhaven Wind Project, LLC | EG21-145-000
Wheatridge Solar Energy Center, LLC | EG21-146-000
Black Rock Wind Force, LLC | EG21-147-000
BRP Ranchtown Bess LLC | EG21-148-000
Hickory Park Solar, LLC | EG21-149-000
Priddy Wind Project, LLC | EG21-150-000
Iron Star Wind Project, LLC | EG21-151-000
Blackwell Wind Energy, LLC | EG21-152-000
Fort Bend Solar LLC | EG21-153-000
Big River Solar, LLC | EG21-154-000
Mulberry BESS LLC | EG21-155-000
Ranchland Wind Project, LLC | EG21-156-000
BT Coniglio Solar, LLC | EG21-157-000
Assembly Solar III, LLC | EG21-158-000
Point Beach Solar, LLC | EG21-159-000
TG East Wind Project LLC | EG21-160-000
Hubbard Wind, LLC | EG21-161-000
Phoenix 500, LLC | EG21-162-000
Phoenix 820, LLC | EG21-163-000

Take notice that during the month of July 2021, the status of the above-captioned entities as Exempt Wholesale Generators became effective by operation of the Commission's regulations. 18 CFR 366.7(a) (2020).

Dated: August 10, 2021.
Debbie-Anne A. Reese,
Deputy Secretary.

[FR Doc. 2021-17486 Filed 8-13-21; 8:45 am]

BILLING CODE 6717-01-P